DEPARTMENT OF COMMERCE

National Oceanic and Atmospheric Administration

[I.D.041801A]

Marine Mammals; File No.782-1613

AGENCY: National Marine Fisheries Service (NMFS), National Oceanic and Atmospheric Administration (NOAA), Commerce.

ACTION: Issuance of permit.

SUMMARY: Notice is hereby given that The National Marine Mammal Laboratory, NMFS, 7600 Sand Point Way, N.E., Seattle, Washington 98115-0070, has been issued a permit to take California sea lions (Zalophus californianus), harbor seals (Phoca vitulina), and northern elephant seals (Mirounga angustirostris), and to incidentally harass northern fur seals (Callorhinus ursinus) for purposes of scientific research.

ADDRESSES: The permit and related documents are available for review upon written request or by appointment in the following office(s):

Permits and Documentation Division, Office of Protected Resources, NMFS, 1315 East-West Highway, Room 13705, Silver Spring, MD 20910 (301/713-2289).

FOR FURTHER INFORMATION CONTACT: Tammy Adams or Ruth Johnson, 301/713-2289.

SUPPLEMENTARY INFORMATION: On February 14, 2001, notice was published in the Federal Register (66 FR 10272) that a request for a scientific research permit to take California sea lions (Zalophus californianus), harbor seals (Phoca vitulina), and northern elephant seals (Mirounga angustirostris), and to incidentally harass northern fur seals (Callorhinus ursinus) had been submitted by the above-named organization. The requested permit has been issued under the authority of the Marine Mammal Protection Act of 1972, as amended (16 U.S.C. 1361 et seq.), the Regulations Governing the Taking and Importing of Marine Mammals (50 CFR part 216), and the Fur Seal Act of 1966, as amended (16 U.S.C. 1151 et seq.).

Dated: April 24, 2001.
Ann D. Terbush,
Chief, Permits and Documentation Division, Office of Protected Resources, National Marine Fisheries Service.

[FR Doc. 01-10656 Filed 4-27-01; 8:45 am]

BILLING CODE 3510-22-S